DEPARTMENT OF TRANSPORTATION

Coast Guard

[USCG 2001-9269]

Guidelines for Assessing a Merchant Mariner's Proficiency through Demonstrations of Skills as an Officer in Charge of an Engineering Watch in a Manned Engine Room or as a Designated Duty Engineer in a Periodically Unmanned Engine Room

AGENCY: Coast Guard, DOT.

ACTION: Notice of availability and request for comments.

SUMMARY: The Coast Guard announces the availability of, and seeks public comments on, the national performance measures proposed here for use as guidelines when a mariner demonstrates his or her competence as an officer in charge of an engineering watch in a manned engine room or as a designated duty engineer in a periodically unmanned engine room. A working group of the Merchant Marine Personnel Advisory Committee (MERPAC) developed and recommended measures for this proficiency. The Coast Guard has adapted the measures recommended by MERPAC.

DATES: Comments and related material must reach the Docket Management Facility on or before June 4, 2001.

ADDRESSES: Please identify your comments and related material by the docket number of this rulemaking [USCG 2001-9269]. Then, to make sure they enter the docket just once, submit them by just one of the following means:

(1) By mail to the Docket Management Facility, U.S. Department of Transportation, room PL-401, 400 Seventh Street SW., Washington DC 20590-0001.

(2) By delivery to room PL-401 on the Plaza level of the Nassif Building, 400 Seventh Street SW., Washington, DC, between 9 a.m. and 5 p.m., Monday through Friday, except Federal holidays. The telephone number is 202-366-9329.

(3) By fax to the Facility at 202-493-2251.

(4) Electronically through the Web Site for the Docket Management System at http://dms.dot.gov.

The Facility maintains the public docket for this Notice. Comments and related material received from the public, as well as documents mentioned in this Notice, will become part of this docket and will be available for inspection or copying at room PL-401 on the Plaza level of the Nassif Building, 400 Seventh Street SW., Washington, DC, between 9 a.m. and 5 p.m., Monday through Friday, except Federal holidays.

The measures proposed here are available on the Internet at http://dms.dot.gov. They are also available from Mr. Mark Gould, Maritime Personnel Qualifications Division, Office of Operating and Environmental Standards, Commandant (G-MSO-1), U.S. Coast Guard Headquarters, telephone 202-267-0229.

FOR FURTHER INFORMATION CONTACT: For questions on this Notice or on the national performance measures proposed here, write or call Mr. Gould where indicated under ADDRESSES. For questions on viewing or submitting material to the docket, call Ms. Dorothy Beard, Chief, Dockets, Department of Transportation, telephone 202-366-9329.

SUPPLEMENTARY INFORMATION:

What Action Is the Coast Guard Taking?

Table A-III/1 of the STCW Code accompanying the treaty on Standards of Training, Certification and Watchkeeping for Seafarers (STCW), 1978, as amended in 1995, articulates qualifications for proficiency as an officer in charge of an engineering watch in a manned engine room or as a designated duty engineer in a periodically unmanned engine room. The Coast Guard tasked MERPAC with referring to the Table, modifying and specifying it as it deemed necessary, and recommending national performance measures. The Coast Guard has adapted the measures recommended by MERPAC and is proposing them now for use as guidelines when assessing a mariner's competence (manifest knowledge, understanding, and proficiency, or, in the jargon, “KUP”) as an officer in charge of an engineering watch in a manned engine room or as a designated duty engineer in a periodically unmanned engine room.

Here follow the four Functions that a mariner must demonstrate to qualify as an officer in charge of an engineering watch in a manned engine room or as a designated duty engineer in a periodically unmanned engine room, with an example of a Performance Condition, a Performance Behavior, and five Performance Criteria for one of the four.

Four Functions (all at the operational level): Marine engineering; Electrical, electronic, and control engineering; Maintenance and repair; and Controlling the operation of the ship and care for persons on board.

Under the Function of “Marine Engineering at the operational level” (and under the competence of “Use appropriate tools for fabrication and repair operations typically performed on ships,” and under the KUP of “Characteristics and limitations of materials used in construction and repair of ships and equipment”) the sole Performance Condition is: “In a workshop [or] laboratory or other safe working environment, given proper tools, lighting, ventilation, and a thin steel plate of no less than ¼ inch thickness, * * *”. This calls for, in the case of this Condition, a single Performance Behavior.

The Performance Behavior for the same Function and Condition is: “[T]he candidate will plan, prepare and safely cut a [3-inch] circular hole in the plate using oxyacetylene process and describe actions as they are being performed.” This Behavior calls for five Performance Criteria.

The Performance Criteria for the same Behavior are: “(1) The plan and layout of the job are correct, [are] in proper sequence, and incorporate all safety considerations; (2) All required equipment is set up and job is properly laid out; (3) The hole is cut according to plan and within tolerance of [plus or minus] ⅛ inch; (4) Actions being executed are described correctly as they are being performed; [and] (5) No safety violations are observed.”

If the mariner properly meets all of the Performance Criteria, he or she passes the practical demonstration. If he or she fails to properly carry out any of the Criteria, he or she fails the demonstration.

Why Is the Coast Guard Taking This Action?

The Coast Guard is taking this action to comply with STCW, as amended in 1995 and 1997 and incorporated into domestic law at 46 CFR parts 10, 12, and 15 in 1997 and since. Guidance from the International Maritime Organization on shipboard assessments of proficiency suggests that Parties develop standards and measures of performance for practical tests as part of their programs for training and assessing seafarers.

How May I Participate in This Action?

You may participate in this action by submitting comments and related material on the national performance measures proposed here. (Although the Coast Guard does not seek public comment on the measures recommended by MERPAC, as distinct from the measures proposed here, those measures are available on the Internet at the Homepage of MERPAC, http://www.uscg.mil/hq/g-m/advisory/merpac/merpac.htm.) The measures proposed here, again, are available on the Internet at http://dms.dot.gov. They are also available from Mr. Gould where indicated under ADDRESSES. If you submit written comments please include—

• Your name and address;

• The docket number for this Notice [USCG 2001-9269];

• The specific section of the performance measures to which each comment applies; and

• The reason for each comment.

You may mail, deliver, fax, or electronically submit your comments and related material to the Docket Management Facility, using an address or fax number listed in ADDRESSES. Please do not submit the same comment or material more than once. If you mail or deliver your comments and material, they must be on 8½-by-11-inch paper, and the quality of the copy should be clear enough for copying and scanning. If you mail your comments and material and would like to know whether the Facility received them, please enclose a stamped, self-addressed postcard or envelope. The Coast Guard will consider all comments and material received during the 60-day comment period.

Once we have considered all comments and related material, we will publish a final version of the national performance measures for use as guidelines by the general public. Individuals and institutions assessing the competence of mariners may refine the final version of these measures and develop innovative alternatives. If you vary from the final version of these measures, however, you must submit your alternative to the National Maritime Center for approval by the Coast Guard under 46 CFR 10.303(e) before you use it as part of an approved course or training program.

Dated: March 28, 2001.
Howard L Hime,
Acting Director of Standards.

[FR Doc. 01-8313 Filed 4-4-01; 8:45 am]

BILLING CODE 4910-15-U